SMALL BUSINESS ADMINISTRATION

Data Collection Available for Public Comments

ACTION: 60-day notice and request for comments.

SUMMARY: The Small Business Administration (SBA) intends to request approval, from the Office of Management and Budget (OMB) for the collection of information described below. The Paperwork Reduction Act (PRA) of 1995, 44 U.S.C Chapter 35 requires federal agencies to publish a notice in the Federal Register concerning each proposed collection of information before submission to OMB, and to allow 60 days for public comment in response to the notice. This notice complies with that requirement.

DATES: Submit comments on or before November 4, 2013.

ADDRESSES: Send all comments to Patrick Kelley, Deputy Associate Administrator, Office of Capital Access, Small Business Administration, 409 3rd Street, 8th Floor, Washington, DC 20416.

FOR FURTHER INFORMATION CONTACT: Patrick Kelley, Deputy Associate Administrator, 202-205-0067, patrick.kelley@sba.gov, or Curtis B. Rich, Management Analyst, 202-205-7030, curtis.rich@sba.gov.

SUPPLEMENTARY INFORMATION: Section 7(a) of the Small Business Act (15 U.S.C. 636(a)) authorizes SBA to guarantee loans made by banks or other financial institutions to qualified small businesses for the purposes of plant acquisition, construction, conversion, or expansion, and/or for the acquisition of land, materials, supplies, equipment, or working capital. SBA is proposing to make several changes to the information collections related to the application process for all loan processing methods for the Agency's 7(a) loan program. The information collected from the small business applicants and participating lenders is used to determine eligibility and to properly evaluate and consider the merits of each loan request based on such criteria as character, capacity, credit, collateral, etc. for the purpose of extending credit under the 7(a) loan program.

SBA proposes to discontinue use of: (a) SBA Form 4 and Form 4-I (OMB Control Number 3245-0016); and (b) SBA Form 2301(A, B, C & D) and Form 7 (OMB Control Number 3245-0361). The Form 4 series is the currently approved loan application for standard 7(a) program, and the Form 2301 series is the currently approved application for SBA's Lender Advantage programs (Small/Rural Lender Advantage and Community Advantage Pilot Loan Program). In lieu of these two information collections, SBA proposes to use Form 1919, Form 1920SX (B & C) and Form 2237 (OMB Control Number 3245-0348) to collect the application related information currently collected by the proposed discontinued forms. As a result, SBA proposes changes to the Form 1919 series (OMB Control Number 3245-0348) to ensure that all of the information necessary to process applications for the affected loan programs is captured in the consolidated forms.

SBA would also make various substantive changes to this proposed consolidated information collection to conform the forms to pending changes in the 7(a) loan program. Specifically, changes are pending that will clarify the credit analysis and collateral requirements for the 7(a) program, and require all application forms be submitted to SBA electronically. Finally, the Dealer Floor Plan Pilot Loan Program will be removed from the forms as the pilot will expire September 30, 2013.

(a) Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

(b) Summary of Information Collection

Title: SBA Express, Export Express, Small Loan Advantage, PLP-Caplines, and Pilot Loan Programs (Patriot Express and Dealer Floor Plan).

Description of Respondents: Small businesses applying for an SBA 7(a) loan and lenders participating in that program.

Form Numbers: (i) Form 1919: SBA Express, Export Express, Small Loan Advantage, PLP-CAPLines, and Pilot Loan Programs (Patriot Express and Dealer Floor Plan) Borrower Information Form. This form collects identifying information regarding the applicant, loan request, indebtedness, information about the principals, information about current or previous government financing, and certain other disclosures.

(ii) Form 1920SX (Part A): SBA Express, Export Express, Small Loan Advantage, PLP-CAPLines and Pilot Loan Programs (Patriot Express and Dealer Floor Plan) Guaranty Request. This form will no longer be used as it is a fax coversheet and all applications will be submitted to SBA electronically.

(iii) Form 1920SX (Part B): Supplemental Information for SBA Express, Export Express, Small Loan Advantage, Pilot Loan Programs and PLP Processing. This form is completed by the 7(a) Lender. This form includes, among other things, identifying information regarding the lender, loan terms, and use of proceeds.

(iv) Form 1920SX (Part C): Eligibility Information Required for SBA Express, Export Express, Small Loan Advantage, PLP-CAPLines and Pilot Loan Programs (Patriot Express and Dealer Floor Plan). This form is completed by the 7(a) Lender. It consolidates eligibility criteria regarding the loan applicants, including use of proceeds and general rules applicable to SBA Express, Export Express, Small Loan Advantage, PLP-CAPLines, Patriot Express and Dealer Floor Plan.

(v) Form 2237: 7(a) Loan Post Approval Action Checklist. This form is completed by the Lender and submitted to SBA for post-approval changes to the loan.

(vi) Form 2238: Supplemental Information for SBA Express/Patriot Express Guaranty Request (Eligibility Authorized). This form is completed by the Lender that has been designated as “eligibility authorized.” This form will no longer be used.

Total Estimated Annual Responses: 165,930.

Total Estimated Annual Hour Burden: 275,055.

Dated: August 26, 2013.
Yvonne K. Wilson,
Chief, Administrative Information Branch.

[FR Doc. 2013-21242 Filed 8-30-13; 8:45 am]

BILLING CODE 8025-01-P